DEPARTMENT OF TRANSPORTATION

Federal Aviation Administration

14 CFR Part 39

[Docket No. FAA-2014-0216; Directorate Identifier 2013-SW-045-AD; Amendment 39-17964; AD 2014-07-04R1]

RIN 2120-AA64

Airworthiness Directives; Sikorsky Aircraft Corporation (Sikorsky) Helicopters

AGENCY: Federal Aviation Administration (FAA), DOT.

ACTION: Final rule; request for comments.

SUMMARY: The FAA is revising airworthiness directive (AD) 2014-07-04 that published in the Federal Register to correct certain errors. AD 2014-07-04 applied to certain Sikorsky Model S-92A helicopters. The range of serial numbers in the Applicability section and a reference to the service information in the Required Actions section of the regulatory text are incorrect. This document corrects those errors. In all other respects, the original document remains the same.

DATES: This final rule is effective September 30, 2014.

The Director of the Federal Register approved the incorporation by reference of a certain document listed in this AD as of May 1, 2014 (79 FR 21385, April 16, 2014).

We must receive comments on this AD by November 14, 2014.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Caspar Wang, Aviation Safety Engineer, Boston Aircraft Certification Office, Engine & Propeller Directorate, FAA, 12 New England Executive Park, Burlington, Massachusetts 01803; telephone (781) 238-7799; email caspar.wang@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

AD 2014-07-04, Amendment 39-17818 (79 FR 21385, April 16, 2014), applied to certain Sikorsky Model S-92A helicopters and required, in part, repetitively inspecting each clamp for correct installation. Due to typographical errors when the AD was published, an incorrect serial number and an incorrect reference to the service information appeared in the text of the rule.

Specifically, AD 2014-07-04 included the following under paragraph (a) in the Applicability section: “This AD applies to Model S-92A helicopters, serial numbers 92006 through 920084, certificated in any category.” As published, the reference to serial number “92006” is incorrect and should be serial number “920006.”

AD 2014-07-04 also included the following under paragraph (e)(2) in the Required Actions section: “(2) Within 5 hours TIS, inspect each clamp for correct installation as shown in Figures 1 through 14 of Sikorsky Aircraft Corporation Alert Service Bulletin No. 92-20-001, dated October 27, 2005 (ASB). If clamps are incorrectly installed or missing, before further flight, install clamps by following the Accomplishment Instructions, paragraphs 3.A.(4) through 3.A.(17) of the ASB.” As published, the reference to “Figures 1 through 14” is incorrect because there are only 13 figures in the service information.

The FAA has determined that it is appropriate to take action to revise AD 2014-07-04 to correct the serial numbers and figure reference. This revision ensures that this AD only applies to those aircraft subject to the unsafe condition and that it is possible for operators to comply with the AD by referencing the correct portions of the service information.

No other part of the preamble or regulatory information has been changed. The final rule is being reprinted in its entirety for the convenience of affected operators.

Impact of the Correction

Since this action reduces the number of helicopters to which the AD is applicable and corrects an obvious error in referencing the service information, it has no adverse economic impact and imposes no additional burden on any person. Therefore, we find that notice and opportunity for prior public comment are unnecessary and that good cause exists for making this amendment effective in less than 30 days.

List of Subjects in 14 CFR Part 39

Air transportation, Aircraft, Aviation safety, Incorporation by Reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-07-04, Amendment 39-17818 (79 FR 21385, April 16, 2014), and by adding the following new AD:

2014-07-04R1 Sikorsky Aircraft Corporation: Amendment 39-17964; Docket No. FAA-2014-0216; Directorate Identifier 2013-SW-045-AD.

(a) Applicability

This AD applies to Model S-92A helicopters, serial numbers 920006 through 920084, certificated in any category.

(b) Unsafe Condition

This AD defines the unsafe condition as an incorrectly installed clamp that does not provide adequate clearance to prevent chafing between the high voltage electrical lines and the hydraulic hoses. This condition could result in a fire in an area of the helicopter without extinguishing capability and subsequent loss of control of the helicopter.

(c) Affected ADs

This AD revises AD 2014-07-04, Amendment 39-17818 (79 FR 21385, April 16, 2014).

(d) Effective Date

This AD becomes effective September 30, 2014.

(e) Compliance

You are responsible for performing each action required by this AD within the specified compliance time unless it has already been accomplished prior to that time.

(f) Required Actions

(1) Within 5 hours time-in-service, inspect the electrical wires and the hydraulic lines in the upper deck of the helicopter for chafing between electrical wires and hydraulic lines. If there is chafing between electrical wires and hydraulic lines, before further flight, replace the unairworthy wires or lines with airworthy wires or lines.

(2) Within 5 hours TIS, inspect each clamp for correct installation as shown in Figures 1 through 13 of Sikorsky Aircraft Corporation Alert Service Bulletin No. 92-20-001, dated October 27, 2005 (ASB). If clamps are incorrectly installed or missing, before further flight, install clamps by following the Accomplishment Instructions, paragraph 3.A.(4) through 3.A.(17) of the ASB.

(3) After each maintenance that requires removing clamps, comply with paragraphs (f)(1) and (f)(2) of this AD.

(g) Alternative Methods of Compliance (AMOCs)

(1) The Manager, Boston Aircraft Certification Office, FAA, may approve AMOCs for this AD. Send your proposal to: Caspar Wang, Aviation Safety Engineer, Boston Aircraft Certification Office, Engine & Propeller Directorate, FAA, 12 New England Executive Park, Burlington, Massachusetts 01803; telephone (781) 238-7799; email caspar.wang@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Subject

Joint Aircraft Service Component (JASC) Code: 2910 Main Hydraulic System.

(i) Material Incorporated by Reference

(1) The Director of the Federal Register approved the incorporation by reference of the service information listed in this paragraph under 5 U.S.C. 552(a) and 1 CFR part 51.

(2) You must use this service information as applicable to do the actions required by this AD, unless the AD specifies otherwise.

(3) The following service information was approved for IBR on May 1, 2014 (79 FR 21385, April 16, 2014).

(i) Sikorsky Aircraft Corporation Alert Service Bulletin No. 92-20-001, dated October 27, 2005.

(ii) Reserved.

(4) For Sikorsky Aircraft Corporation service information identified in this AD, contact Customer Service Engineering, 124 Quarry Road, Trumbull, CT 06611; telephone 1-800-Winged-S or 203-416-4299; email sikorskywcs@sikorsky.com.

(5) You may view this service information at FAA, Office of the Regional Counsel, Southwest Region, 2601 Meacham Blvd., Room 663, Fort Worth, Texas 76137. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on August 21, 2014.
Lance T. Gant,
Acting Directorate Manager, Rotorcraft Directorate, Aircraft Certification Service.

[FR Doc. 2014-21880 Filed 9-12-14; 8:45 am]

BILLING CODE 4910-13-P